DEPARTMENT OF COMMERCE

International Trade Administration

[A-823-808]

Certain Cut-to-Length Carbon Steel Plate from Ukraine; Administrative Review of Suspension Agreement; Extension of Time Limits

AGENCY: Import Administration, International Trade Administration, Department of Commerce.

ACTION: Notice of Extension of Time Limits.

SUMMARY: The Department of Commerce (the Department) is extending the time limits for the final results of the 2000-2001 administrative review of the suspension agreement on cut-to-length carbon steel plate from Ukraine.

EFFECTIVE DATE: January 24, 2003.

FOR FURTHER INFORMATION CONTACT: Patricia Tran at (202) 482-1121 or Robert James at (202) 482-0649, Antidumping and Countervailing Duty Enforcement Group III, Office Eight, Import Administration, International Trade Administration, U.S. Department of Commerce, 14th Street and Constitution Avenue NW, Washington, DC 20230.

SUPPLEMENTARY INFORMATION: On December 9, 2002, we published the preliminary results of this administrative review. See Certain Cut-to-Length Carbon Steel Plate from Ukraine; Notice of Preliminary Results of Administrative Review of the Suspension Agreement 67 FR 72916 (December 9, 2002). Currently, the final results in this administrative review are due on April 8, 2003. Pursuant to section 751(a)(3)(A) of the Tariff Act, the Department may extend the deadline for completion of an administrative review if it determines that it is not practicable to complete the final results of the review within the normal statutory time limit. Due to the complexity of the issues present in this administrative review, including affiliated party sales, and because the Department must conduct verifications of several discreet entities, the Department determines it is not practicable to complete this review within the normal statutory time limit. Therefore, the Department is extending the time limits for completion of the final results until June 9, 2003, in accordance with section 751(a)(3)(A) of the Tariff Act of 1930, as amended.

Dated: January 15, 2003.
Joseph A. Spetrini,
Deputy Assistant Secretary for Import Administration, Group III.

[FR Doc. 03-1654 Filed 1-23-03; 8:45 am]

BILLING CODE 3510-DS-S